NATIONAL CREDIT UNION ADMINISTRATION

Agency Information Collection Activities: Submission to OMB for Review; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until May 20, 2011.

ADDRESSES: Interested parties are invited to submit written comments to NCUA Clearance Officer listed below:

Clearance Officer: Tracy Sumpter, National Credit Union Administration, 1775 Duke Street, Alexandria, Virginia 22314-3428, Fax No. 703-837-2861, E-mail: OCIOmail@ncua.gov.

FOR FURTHER INFORMATION CONTACT: Requests for additional information or a copy of the information collection request should be directed to Tracy Sumpter at the National Credit Union Administration, 1775 Duke Street, Alexandria, VA 22314-3428, or at (703) 518-6440.

SUPPLEMENTARY INFORMATION: Proposal for the following collection of information:

OMB Number: 3133-0121.

Form Number: 4063 and 4063a.

Type of Review: Reinstatement, without change, of a previously approved collection.

Title: Notice of Change of Official or Senior Executive Officer and Individual Application for Approval of Official or Senior Executive Officer.

Description: In order to comply with statutory requirements, the agency must obtain sufficient information from new officials or senior executive officers of troubled or newly chartered credit unions to determine their fitness for the position. These forms standardize the information gathered to evaluate the individual's fitness for the position. The format is similar to the one used by the FFIEC agencies and the FRB. 12 CFR 701.14 and 741.205.

Estimated No. of Respondents/Recordkeepers: 650.

Estimated Burden Hours per Response: 2.0 hours.

Frequency of Response: Reporting and on occasion.

Estimated Total Annual Burden Hours: 1,300.

Estimated Total Annual Cost: $0.

By the National Credit Union Administration Board on April 14, 2011.
Mary Rupp,
Secretary of the Board.

[FR Doc. 2011-9553 Filed 4-19-11; 8:45 am]

BILLING CODE 7535-01-P